DEPARTMENT OF HEALTH AND HUMAN SERVICES

Centers for Medicare and Medicaid Services

[Document Identifier: CMS-10175]

Emergency Clearance: Public Information Collection Requirements Submitted to the Office of Management and Budget (OMB)

AGENCY: Center for Medicare and Medicaid Services.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because public harm will ensue from the continued denial of access from providers obtaining National Provider Identifiers (NPI) en masse.

Currently, providers can obtain a NPI via a paper application or over the Internet through the National Plan and Provider Enumeration System (NPPES). These applications must be submitted individually, on a per-provider basis. We are seeking OMB approval for the electronic file interchange (EFI) process. The EFI process is designed to allow provider-designated organizations (known as electronic file interchange organizations “EFIOs”) to capture multiple providers' NPI application information on a single file. (This process is also referred to as “bulk enumeration.”) To ensure that the EFIO has the authority to act on behalf of each provider and complies with other Federal requirements, the EFIO must sign a certification statement and mail it to CMS. The EFI process therefore cannot commence until the certification statement receives final OMB clearance.

1. Type of Information Collection Request: New collection; Title of Information Collection: Certification Statement for Electronic File Interchange Organizations (EFIOS) that Submit National Provider Identifier (NPI) Data to the National Plan and Enumeration System; Use: The EFI process is designed to allow organizations to submit NPI application information for large numbers of providers in a single file. Once it has obtained and formatted the necessary provider data, the EFIO will electronically submit the file to NPPES for processing. As each file can contain up to approximately 100,000 records, or provider applications, the EFI process greatly reduces the paperwork and overall administrative burden associated with enumerating providers; Form Number: CMS-10175 (OMB#: 0938-NEW); Frequency: Other—One-time; Affected Public: Business or other for-profit, and Not-for-profit institutions; Number of Respondents: 2000; Total Annual Responses: 1000; Total Annual Hours: 3000.

CMS is requesting OMB review and approval of these collections by December 30, 2005, with a 180-day approval period. Written comments and recommendation will be considered from the public if received by the individuals designated below by December 23, 2005.

To obtain copies of the supporting statement and any related forms for the proposed paperwork collections referenced above, access CMS' Web site address at http://www.cms.hhs.gov/regulations/pra/, or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed to the designees referenced below by December 23, 2005: Centers for Medicare and Medicaid Services, Office of Strategic Operations and Regulatory Affairs, Division of Regulations Development—B, Room C4-26-05, 7500 Security Boulevard, Baltimore, MD 21244-1850, Attn: William N. Parham, III and, OMB Human Resources and Housing Branch, Attention: Carrie Lovett, New Executive Office Building, Room 10235, Washington, DC 20503.

Dated: December 2, 2005.
Michelle Shortt,
Director, Regulations Development Group, Office of Strategic Operations and Regulatory Affairs.

[FR Doc. E5-7153 Filed 12-8-05; 8:45 am]

BILLING CODE 4120-01-P